DEPARTMENT OF THE INTERIOR

National Park Service

Notice of Inventory Completion: U.S. Department of the Interior, Utah State Office, Bureau of Land Management, Salt Lake City, UT and Utah Museum of Natural History, University of Utah, Salt Lake City, UT

AGENCY: National Park Service, Interior.

ACTION: Notice.

Notice is here given in accordance with the Native American Graves Protection and Repatriation Act (NAGPRA), 25 U.S.C. 3003, of the completion of an inventory of human remains and associated funerary objects in the control of the U.S. Department of the Interior, Utah State Office, Bureau of Land Management, Salt Lake City, UT, and in the possession of the Utah Museum of Natural History, University of Utah, Salt Lake City, UT. The human remains and associated funerary objects were removed from Kane County, UT.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Utah Museum of Natural History, University of Utah, and Utah State Office, Bureau of Land Management professional staff in consultation with representatives of the Confederated Tribes of the Goshute Reservation, Nevada and Utah; Duckwater Shoshone Tribe of the Duckwater Reservation, Nevada; Ely Shoshone Tribe of Nevada; Hopi Tribe of Arizona; Kaibab Band of Paiute Indians of the Kaibab Indian Reservation, Arizona; Moapa Band of Paiute Indians of the Moapa River Indian Reservation, Nevada; Navajo Nation, Arizona, New Mexico & Utah; Northwestern Band of Shoshoni Nation of Utah (Washakie); Ohkay Owingeh, New Mexico; Paiute Indian Tribe of Utah (Cedar City Band of Paiutes, Kanosh Band of Paiutes, Koosharem Band of Paiutes, Indian Peaks Band of Paiutes, and Shivwits Band of Paiutes); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; San Juan Southern Paiute Tribe of Arizona; Shoshone Tribe of the Wind River Reservation, Wyoming; Shoshone-Bannock Tribes of the Fort Hall Reservation of Idaho; Shoshone-Paiute Tribes of the Duck Valley Reservation, Nevada; Skull Valley Band of Goshute Indians of Utah; Southern Ute Indian Tribe of the Southern Ute Reservation, Colorado; Te-Moak Tribes of Western Shoshone Indians of Nevada (Four constituent bands: Battle Mountain Band, Elko Band, South Fork Band and Wells Band); Ute Indian Tribe of the Uintah & Ouray Reservation, Utah; Ute Mountain Tribe of the Ute Mountain Reservation, Colorado, New Mexico & Utah; Ysleta del Sur Pueblo of Texas; and Zuni Tribe of the Zuni Reservation, New Mexico.

In 1962 and 1963, human remains representing a minimum of four individuals were removed from site 42Ka1076, the Bonanza Dune site, in Kane County, UT, as part of the University of Utah's archeological field schools. The human remains and associated funerary objects were subsequently accessioned into the Utah Museum of Natural History. No known individuals were identified. The 41 associated funerary objects are 1 Shinarump Brown jar, 1 Black Mesa B/W bowl, 1 North Creek Gray jar, 1 jar, 1 bowl, 1 projectile point, 1 stone, 3 Shinarump sherds, and 31 sherds. The following 21 objects were also identified in museum records and the excavation report as being associated with the human remains, but the museum could not verify their current location: 19 stones, 1 North Creek Gray ladle, and 1 sherd.

The three reported burials are associated with the Virgin Anasazi. A report on the site excavation discusses the three burials; it is not clear whether the fourth set of human remains came from one of these burials or from some other location in the site. However, it is reasonably believed that the fourth burial listed in the museum records would have the same cultural affiliation since that is the primary cultural sequence noted at the site.

The Zuni Tribe of the Zuni Reservation, New Mexico; Hopi Tribe of Arizona; and San Juan Southern Paiute Tribe of Arizona have all made generalized claims for a relationship with the Virgin Anasazi peoples in southwestern Utah and northwestern Arizona. Archeological evidence indicates that Virgin Anasazi peoples began to leave the area by A.D. 1150, and abandoned most locations shortly after A.D. 1200. Some evidence suggests that Paiute ancestors entered the region or at least were in contact with Virgin Anasazi peoples by A.D. 1150, but there is a distinct archeological record showing two separate occupations by two peoples, and evidence for a direct relationship between Virgin Anasazi peoples and present-day Paiutes has not been shown. Cultural continuity from Basketmaker through Puebloan times and into the present shows cultural continuity of Virgin Anasazi (and other Anasazi expressions) with extant Puebloans. Based on general evidence, extant Puebloan tribes are culturally affiliated to Virgin Anasazi at some general level. There is specific evidence, especially oral tradition and folklore, with support from archeology and other lines of evidence, to link the Hopi Tribe of Arizona directly to Virgin Anasazi culture by a simple preponderance of the evidence.

Officials of the Utah State Office, Bureau of Land Management have determined that, pursuant to 25 U.S.C. 3001 (9-10), the human remains described above represent the physical remains of four individuals of Native American ancestry. Officials of the Utah State Office, Bureau of Land Management also have determined that, pursuant to 25 U.S.C. 3001 (3)(A), the 41 objects described above are reasonably believed to have been placed with or near individual human remains at the time of death or later as part of the death rite or ceremony. Lastly, officials of the Utah State Office, Bureau of Land Management have determined that, pursuant to 25 U.S.C. 3001 (2), there is a relationship of shared group identity that can be reasonably traced between the Native American human remains and associated funerary objects and the Hopi Tribe of Arizona.

Representatives of any other Indian tribe that believes itself to be culturally affiliated with the human remains and associated funerary objects should contact Dr. Byron Loosle, Utah State NAGPRA Coordinator, BLM Utah State Office, P.O. Box 45155, 440 West 200 South, Suite 600, Salt Lake City, UT 84145-0155, telephone (801) 539-4276, before April 13, 2009. Repatriation of the human remains and associated funerary objects to the Hopi Tribe of Arizona may proceed after that date if no additional claimants come forward.

The Utah State Office, Bureau of Land Management is responsible for notifying the Confederated Tribes of the Goshute Reservation, Nevada and Utah; Duckwater Shoshone Tribe of the Duckwater Reservation, Nevada; Ely Shoshone Tribe of Nevada; Hopi Tribe of Arizona; Kaibab Band of Paiute Indians of the Kaibab Indian Reservation, Arizona; Moapa Band of Paiute Indians of the Moapa River Indian Reservation, Nevada; Navajo Nation, Arizona, New Mexico & Utah; Northwestern Band of Shoshoni Nation of Utah (Washakie); Ohkay Owingeh, New Mexico; Paiute Indian Tribe of Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; San Juan Southern Paiute Tribe of Arizona; Shoshone Tribe of the Wind River Reservation, Wyoming; Shoshone-Bannock Tribes of the Fort Hall Reservation of Idaho; Shoshone-Paiute Tribes of the Duck Valley Reservation, Nevada; Skull Valley Band of Goshute Indians of Utah; Southern Ute Indian Tribe of the Southern Ute Reservation, Colorado; Te-Moak Tribes of Western Shoshone Indians of Nevada; Ute Indian Tribe of the Uintah & Ouray Reservation, Utah; Ute Mountain Tribe of the Ute Mountain Reservation, Colorado, New Mexico & Utah; Ysleta del Sur Pueblo of Texas; and Zuni Tribe of the Zuni Reservation, New Mexico that this notice has been published.

Dated: January 26, 2009.
Sherry Hutt,
Manager, National NAGPRA Program.

[FR Doc. E9-5346 Filed 3-11-09; 8:45 am]

BILLING CODE 4312-50-S